DEPARTMENT OF COMMERCE

National Oceanic and Atmospheric Administration

RIN 0648-XF862

Endangered Species; File No. 21367

AGENCY: National Marine Fisheries Service (NMFS), National Oceanic and Atmospheric Administration (NOAA), Commerce.

ACTION: Notice; receipt of application for a permit modification.

SUMMARY: Notice is hereby given that Christopher Marshall, Ph.D., Texas A&M University at Galveston, 200 Seawolf Parkway, Galveston, TX 77553, has requested a modification to scientific research Permit No. 21367.

DATES: Written, telefaxed, or email comments must be received on or before June 20, 2019.

ADDRESSES: The modification request and related documents are available for review by selecting “Records Open for Public Comment” from the Features box on the Applications and Permits for Protected Species (APPS) home page, https://apps.nmfs.noaa.gov, and then selecting File No. 21367 Mod 3 from the list of available applications. These documents are also available upon written request or by appointment in the Permits and Conservation Division, Office of Protected Resources, NMFS, 1315 East-West Highway, Room 13705, Silver Spring, MD 20910; phone: (301) 427-8401; fax: (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Erin Markin, (301) 427-8401.

SUPPLEMENTARY INFORMATION: The subject modification to Permit No. 21367, issued on March 15, 2018 (83 FR 17655) is requested under the authority of the Endangered Species Act of 1973, as amended (16 U.S.C. 1531 et seq.) and the regulations governing the taking, importing, and exporting of endangered and threatened species (50 CFR parts 222-226).

Permit No. 21367 authorizes the permit holder to conduct research on sea turtles to characterize the movement, habitat use, foraging ecology, and health of sea turtles on the Texas coast and in the western Gulf of Mexico. Researchers are authorized to capture sea turtles by hand, dip net, tangle net or cast net and perform the following procedures prior to release of animals: Examination, marking, morphometrics, biological sampling, and attachment of transmitters. The permit holder requests authorization to increase the number of green sea turtles (Chelonia mydas) that may be taken annually from 45 to 80 animals to accommodate increased efforts in Laguna Madre. No other changes to the permit are requested.

Dated: May 16, 2019.
Julia Marie Harrison,
Chief, Permits and Conservation Division, Office of Protected Resources, National Marine Fisheries Service.

[FR Doc. 2019-10548 Filed 5-20-19; 8:45 am]

BILLING CODE 3510-22-P